DEPARTMENT OF THE INTERIOR

Bureau of Ocean Energy Management

[Docket No. BOEM-2024-0001]

Notice of Availability of a Draft Programmatic Environmental Impact Statement for Expected Wind Energy Development in the New York Bight

AGENCY: Bureau of Ocean Energy Management, Interior.

ACTION: Notice of availability; request for comments.

SUMMARY: The Bureau of Ocean Energy Management (BOEM) announces the availability of the draft programmatic environmental impact statement (PEIS) to analyze the potential impacts of wind energy development in six lease areas of the New York (NY) Bight. The PEIS also identifies possible changes in those impacts that could result from adopting certain avoidance, minimization, mitigation, and monitoring (AMMM) measures (the Proposed Action). This notice of availability (NOA) announces the start of the public review and comment period and the dates and times for public meetings on the draft PEIS. After the public comment period and meetings, BOEM will address the issues raised and will publish a final PEIS. The final PEIS will inform BOEM's decision whether to adopt certain AMMM measures at this stage that would potentially be required as conditions of approval for activities proposed by NY Bight lessees in their construction and operations plans (COPs) or defer the decision to adopt such measures to each project-specific environmental review.

DATES: Comments must be received no later than February 26, 2024. BOEM will conduct a total of five virtual and in-person public meetings. BOEM's public meetings will be held at the following times (all times Eastern):

• January 31, 2024, 5:00 p.m.-9:00 p.m., virtual meeting;

• * February 5, 2024, 4:00 p.m.-7:00 p.m., University of Massachusetts, Dartmouth, The Marketplace, MacLean Campus Center, 285 Old Westport Rd., North Dartmouth, MA 02747;

• * February 7, 2024, 4:00 p.m.-7:00 p.m., Stony Brook University, Bauman Center for Leadership and Service, Benedict D013, Room C029, 200 Circle Rd., Stony Brook, NY 11790;

• * February 8, 2024, 4:00 p.m.-7:00 p.m., Clarion Hotel Toms River, 815 Route 37 West, Toms River, NJ 08755; and

• February 13, 2024, 1:00 p.m.-5:00 p.m., virtual meeting.

* In the event the in-person public meetings are cancelled due to inclement weather, they will be replaced with a single virtual meeting on February 8, 2024, 4:00 p.m.-7:00 p.m.

Registration for the public meetings may be completed on the NY Bight website here: https://www.boem.gov/renewable-energy/state-activities/new-york-bight or by calling (202) 517-1249. Registration for the virtual meetings is required. Registration for the in-person public meetings is voluntary but strongly encouraged. Meeting information will be sent to registrants via their email address provided during registration. In the event of inclement weather, in-person public meetings will be replaced with one virtual meeting on February 8, 2024, 4:00 p.m.-7:00 p.m. This inclement weather notification and the virtual meeting link will be shared with registrants via their email address provided during registration. BOEM will also send a Notice to Stakeholders, post on the NY Bight website, and share on BOEM's digital media accounts.

ADDRESSES: The draft PEIS can be found on the NY Bight website at: https://www.boem.gov/renewable-energy/state-activities/new-york-bight. Comments can be submitted in any of the following ways:

• Orally or in written form during any of the public meetings identified in this NOA.

• In-Person Meetings: BOEM will follow an informal, open house format with a series of informational posters staffed by BOEM subject matter experts who can share information with individual attendees and answer questions one-on-one. Attendees can submit formal public comments for the record by submitting comments on laptops through the regulations.gov web portal, via handwritten comment cards, or by individually recording oral comments. If additional accommodations are needed, please contact boempublicaffairs@boem.gov or call (202) 517-1249 at least 7 days prior to the in-person meeting date.

• Virtual Meetings: BOEM will provide an overview presentation. Afterwards, members of the public may make formal, oral public statements for the record. The meeting facilitator will mute the audience during the meeting until individuals are called on to provide comments in front of all attendees. Attendees can ask clarifying questions to BOEM staff through the webinar Q&A function, which will be explained after the public statements.

• All comments and questions received during the five public meetings will be part of the public record.

• Delivered by mail or delivery service, enclosed in an envelope labeled, “NY BIGHT PEIS” and addressed to Chief, Division of Environmental Assessment, Office of Environmental Programs, Bureau of Ocean Energy Management, 45600 Woodland Road, VAM-OEP, Sterling, Virginia 20166; or

• Through the regulations.gov web portal: Navigate to https://www.regulations.gov and search for Docket No. BOEM-2024-0001. Select the document in the search results on which you want to comment, click on the “Comment” button, and follow the online instructions for submitting your comment. A commenter's checklist is available on the comment web page. Enter your information and comment, then click “Submit.”

For more information about submitting comments, please see “Information on Submitting Comments” under the SUPPLEMENTARY INFORMATION heading below.

FOR FURTHER INFORMATION CONTACT: Jill Lewandowski, BOEM Office of Environmental Programs, 45600 Woodland Road, VAM-OEP, Sterling, Virginia 20166, (703) 787-1703 or jill.lewandowski@boem.gov.

SUPPLEMENTARY INFORMATION:

Proposed Action: The draft PEIS assumes that a representative project, including associated export cables, within a range of design parameters informed by lessees, will be developed for the NY Bight and considers the potential environmental impacts of that development. The Proposed Action for the PEIS is the adoption of programmatic AMMM measures that BOEM would require as conditions of approval for activities proposed by lessees in COPs submitted for the NY Bight unless the COP-specific NEPA analysis shows that implementation of such measures is not warranted or effective. BOEM may require additional or different measures based on subsequent, project-specific environmental analyses. These AMMM measures are considered programmatic insofar as they may be applied to COPs within the whole NY Bight area, not because they necessarily will apply to COPs under BOEM's renewable energy program outside of the NY Bight area. The PEIS considers the possible change in potential impacts resulting from the application of individual AMMM measures. The Proposed Action does not itself require any actions by BOEM or lessees.

Alternatives: BOEM considered 19 alternatives when preparing the draft PEIS and carried forward 3 alternatives for further analysis. These three alternatives include two action alternatives and the no action alternative. Sixteen alternatives were rejected because they did not meet the purpose and need for the proposed action or did not meet screening criteria, which are presented in chapter 2 of the draft PEIS. The screening criteria included consistency with law and regulations; technical and economic feasibility; environmental impact; and geographic considerations.

Availability of the Draft PEIS: The draft PEIS and associated information are available on the New York Bight website at: https://www.boem.gov/renewable-energy/state-activities/new-york-bight. If you need a flash drive or paper copy, BOEM will provide one upon request, as long as copies are available. You may request a flash drive or paper copy of the draft PEIS by calling (703) 787-1703.

Cooperating Agencies: The following 13 Federal, State, and local agencies participated as cooperating agencies in the preparation of the draft PEIS: the Bureau of Safety and Environmental Enforcement; U.S. Environmental Protection Agency; National Marine Fisheries Service; U.S. Army Corps of Engineers; U.S. Coast Guard; U.S. Fish and Wildlife Service; National Park Service; New Jersey Department of Environmental Protection; New Bedford Port Authority; New York State Department of State; New York State Department of Environmental Compliance; New Jersey Board of Public Utilities; and the Massachusetts Office of Coastal Zone Management. The following Tribal Nations participated as Cooperating Tribal Governments in the preparation of the draft PEIS: the Stockbridge-Munsee Community Band of Mohican Indians and the Mashantucket (Western) Pequot Tribal Nation. The New York City Mayor's Office of Environmental Coordination served as a participating agency in the preparation of the draft PEIS.

Information on Submitting Comments: BOEM discourages anonymous comments. Please include your full name as part of your comment. BOEM makes all comments, including your name and any other personally identifiable information (PII) in your comment, available for public review. You may request that BOEM withhold your name, address, and any other PII included in your comment from the public record. However, BOEM cannot guarantee that it will be able to do so. If you wish your name, address, and other PII to be withheld, you must state your request prominently in a cover letter and explain the harm that you fear from its disclosure, such as unwarranted privacy invasion, embarrassment, or injury.

Even if BOEM withholds your information in the context of this notice, your comment is subject to the Freedom of Information Act (FOIA) and any relevant court orders. If your comment is requested under FOIA or any court order, your information will only be withheld if BOEM determines that one of the FOIA exemptions to disclosure applies or if the applicable court order is challenged. BOEM will make its determination in accordance with the Department's FOIA regulations and applicable law.

Please label privileged or confidential information as “Contains Confidential Information,” and consider submitting such information as a separate attachment. BOEM may consider information that is not labeled as privileged or confidential as suitable for public release.

Request for Comment: BOEM requests data, comments, views, information, analysis, or suggestions relevant to the analysis of the Proposed Action from the public; affected Federal, Tribal, State, and local governments, agencies, and offices; the scientific community; industry; or any other interested party. Specifically, BOEM requests information on the following topics:

1. In an effort to fully meet the intent of Executive Order (E.O.) 12898, “Federal Actions to Address Environmental Justice in Minority Populations and Low-Income Populations,” and E.O. 14096, “Revitalizing Our Nation's Commitment to Environmental Justice for All,” BOEM is considering several AMMM measures intended to mitigate impacts to communities with environmental justice (EJ) concerns. These measures include communication plans, provision of mitigation resources, and reporting requirements (AMMM measures EJ-1 through EJ-3). BOEM seeks input on the potential for these measures to reduce impacts on communities with EJ concerns. In addition, BOEM developed an EJ compensatory mitigation framework (EJ-4), per guidance issued by the Federal Interagency Working Group on Environmental Justice and NEPA Committee in its report “Promising Practices for EJ Methodologies in NEPA Reviews” (2016). On page 48, the guidance states that agencies “may wish to consider appropriate compensating mitigation” when there are unavoidable adverse impacts to environmental justice populations.

EJ engagement participants have indicated that offshore wind energy development has potential for impacts that are not identified in advance of construction and operations. Therefore, BOEM is seeking feedback on the proposed language outlined in the EJ compensatory mitigation AMMM measure (EJ-4) to address impacts that cannot be avoided or minimized. In particular, BOEM requests feedback on the following: (1) the lessee's financial contribution and how it is calculated over the life of mitigation implementation; (2) what constitutes an eligible impact to receive compensation; (3) appropriate level of description and guidance surrounding a board of trustees to administer the compensatory mitigation funds, including its composition, bylaws, governance, and oversight; (4) fund management criteria that need to be stated at the programmatic stage to advance equity considerations; (5) fund distribution objectives; and (6) defining recipients of fund distributions.

2. BOEM is soliciting feedback on AMMM measures related to measuring, monitoring, and reducing noise and its impacts on marine life. Specifically, BOEM seeks information on operational measures, noise abatement technologies, and other techniques and procedures that may be helpful to meet any marine noise reduction targets or to reduce the impact of any noise introduced into the marine environment; the cost and commercial feasibility of such measures and technologies in meeting a target; and what criteria BOEM should consider in determining whether a specific project could be exempted from a target. BOEM is also seeking similar feedback on AMMM measures related to sound field verification and long-term passive acoustic monitoring. BOEM requests feedback on the currently written acoustic assessment and the use of the relativistic risk assessment framework (appendix J in draft PEIS). BOEM appreciates any information that can help improve its applicability to the NY Bight and future projects.

Authority: 42 U.S.C. 4321 et seq. (NEPA, as amended), and 40 CFR 1506.6.

Karen Baker,
Chief, Office of Renewable Energy Programs, Bureau of Ocean Energy Management.

[FR Doc. 2024-00512 Filed 1-11-24; 8:45 am]

BILLING CODE 4340-98-P